DEPARTMENT OF ENERGY

Notice of Availability of the West Valley Demonstration Project Draft Waste Management Environmental Impact Statement

AGENCY: Department of Energy.

ACTION: Notice of availability.

SUMMARY: The Department of Energy (DOE) announces the availability of the West Valley Demonstration Project (WVDP) Draft Waste Management Environmental Impact Statement (EIS) for public review and comment. This Draft EIS has been prepared in accordance with the requirements of the National Environmental Policy Act of 1969 as amended (NEPA)(42 U.S.C. 4321 et seq.); Council on Environmental Quality regulations implementing NEPA (40 Code of Federal Regulations (CFR) Parts 1500-1508); and DOE NEPA Implementing Procedures (10 CFR part 1021).

DOE's proposed action (and preferred alternative) is to ship radioactive wastes that are either currently in storage on the WVDP site, or that will be generated from WVDP operations over the next ten years, to offsite disposal locations, and to continue managing its onsite waste storage tanks. The potential environmental consequences of the proposed action are evaluated in this Draft EIS, including impacts to workers and the public from waste transportation and waste management. The Draft EIS also analyzes a No Action Alternative, under which most wastes would continue to be stored over the next ten years, and an alternative under which certain wastes would be shipped to interim offsite storage locations prior to disposal, along with the addition of retrievable grout to the waste storage tanks for interim stabilization. Indefinite waste storage onsite was considered but not analyzed.

The public is invited to comment on the Draft EIS during a 45-day public comment period, which ends on June 30, 2003. All comments received during the public comment period will be considered in preparing the Final EIS. Comments received after the public comment period ends will be considered to the extent practicable.

ADDRESSES: Requests for information about this Draft EIS should be directed to: Daniel W. Sullivan, EIS Document Manager, DOE West Valley Area Office, 10282 Rock Springs Road, WV-49, West Valley, New York 14171-9799, Telephone: (716) 942-4016.

Copies of the document can be requested by telephone at (716) 942-2152 or (800) 633-5280.

Written comments on the Draft EIS can be mailed to: Daniel W. Sullivan, WVDP WM EIS, 10282 Rock Springs Road, WV-49, West Valley, New York 14171-9799.

Written comments may also be submitted by fax to: (716) 942-4199, or submitted electronically to allens@wvnsco.com.

Oral comments on the Draft EIS will be accepted only during the public hearing scheduled for the date and location provided in the DATES section of this Notice.

For information regarding the DOE NEPA process, please contact: Ms. Carol M. Borgstrom, Director, Office of NEPA Policy and Compliance, (EH-42), U.S. Department of Energy, 1000 Independence Avenue, SW., Washington, DC 20585, Telephone: (202) 586-4600, or leave a message at (800) 472-2756.

The Draft EIS will be available at http://tis.eh.doe.gov/nepa/docs.docs.htm or www.wv.doe.gov. Copies of the Draft EIS and supporting technical reports also are available for review at the locations listed in the SUPPLEMENTARY INFORMATION section of this Notice.

DATES: The public is invited to submit written and/or oral comments on the Draft EIS. The comment period on the Draft EIS begins on the date of this Notice and ends on June 30, 2003. DOE will consider all comments postmarked by that date in preparing the Final EIS. Comments postmarked after that date will be considered to the extent practicable.

DOE will hold public hearings on June 11, 2003, at: Ashford Office Complex, 9030 Route 219, Town of Ashford, Buffalo, New York, 1:30 p.m. to 3:30 p.m.,7:00 p.m. to 9:00 p.m.

Requests to speak at the public hearings can be made by calling or writing the EIS Document Manager (see ADDRESSES, above). Requests to speak that have not been submitted prior to the hearing will be accepted in the order in which they are received during the hearing. Speakers are encouraged to provide written versions of their oral comments for the record. Each speaker will be allowed five minutes to present comments unless more time is requested and available. Comments will be recorded by a court reporter and will become part of the public hearing record.

SUPPLEMENTARY INFORMATION: The WVDP is located on the Western New York Nuclear Service Center (also referred to as the Center). The Center comprises approximately 13.5 square kilometers (five square miles) in West Valley, New York, and is located in the town of Ashford, approximately 50 kilometers (30 miles) southeast of Buffalo, New York. The Center was the site of the world's first commercial nuclear fuel reprocessing plant, which was the only one to have operated in the United States. The Center operated under a license issued by the Atomic Energy Commission (now the U. S. Nuclear Regulatory Commission [NRC]) in 1966 to Nuclear Fuel Services, Incorporated, and the New York State Atomic and Space Development Authority, now known as the New York State Energy Research and Development Authority (NYSERDA).

During reprocessing, spent nuclear fuel from commercial nuclear power plants and DOE sites was chopped, dissolved, and processed by a solvent extraction system to recover uranium and plutonium. Fuel reprocessing ended in 1972 when the plant was shut down for modifications to increase its capacity, reduce occupational radiation exposure, and reduce radioactive effluents.

In 1976, Nuclear Fuel Services estimated that over $600 million would be required to modify the facility to increase its capacity and to comply with changes in regulatory standards. As a result, the company decided to withdraw from the nuclear fuel reprocessing business and exercise its contractual right to yield responsibility for the Center to NYSERDA. Nuclear Fuel Services withdrew from the Center without removing any of the in-process nuclear wastes. NYSERDA now holds title to and manages the Center on behalf of the people of the State of New York.

In 1980, Congress passed the WVDP Act (Pub. L. 96-368). This Act requires DOE to demonstrate that the liquid high-level radioactive waste (HLW) from reprocessing can be safely managed by solidifying it at the Center and transporting it to a geologic repository for permanent disposal. In addition to HLW, the WVDP also manages low-level radioactive waste (LLW), transuranic (TRU) waste, and mixed waste (radioactive and hazardous) generated as a result of Project activities.

The Project Facilities and areas storing the waste are: the Process Building, which includes approximately 70 rooms and cells that comprised the NRC-licensed spent nuclear fuel reprocessing operations (one of the cells—the Chemical Process Cell—now serves as the storage facility for the vitrified HLW canisters); the Tank Farm, which includes the underground HLW storage tanks; Waste Storage Areas, which include several facilities such as Lag Storage Areas and the Chemical Process Cell Waste Storage Area; and the Radwaste Treatment System Drum Cell (Drum Cell), which stores cement-filled drums of stabilized LLW.

The scope of this Draft EIS departs from that which was announced in a March 2001 Notice of Intent (NOI) (66 FR 16447, March 26, 2001). The scope is now limited to onsite waste management and offsite waste transportation activities, and no longer includes decontamination activities as proposed in the NOI. DOE modified the scope of this EIS as a result of public comments received during scoping and the Department's further evaluation of activities that might be required independently of final decisions on decommissioning and/or long-term stewardship (LTS) at the WVDP. DOE published an Advance NOI (66 FR 56090, November 6, 2001) inviting preliminary public comment on a proposed scope for a decommissioning and/or LTS EIS and recently published an NOI (68 FR 12004, March 13, 2003).

Description of Alternatives

DOE analyzed three alternatives in the Draft EIS. Under the No Action Alternative, Continuation of Ongoing Waste Management Activities, waste management would include continued storage of most of the existing LLW, the TRU waste, and the HLW, and limited shipments of some LLW to offsite disposal. The emptied HLW storage tanks and their surrounding vaults would continue to be ventilated to manage moisture levels as a corrosion prevention measure.

Under Alternative A, Offsite Shipment of HLW, LLW, Mixed LLW, and TRU Wastes to Disposal and Ongoing Management of the Waste Storage Tanks (DOE's preferred alternative), DOE would ship the LLW and mixed LLW to one of two DOE potential disposal sites (in Washington or Nevada) or to a commercial disposal site (such as the Envirocare facility in Utah), ship TRU waste to the Waste Isolation Pilot Plant (WIPP) in New Mexico, and ship the HLW to the proposed Yucca Mountain HLW Repository in Nevada. LLW and mixed LLW would be shipped over the next ten years. TRU waste shipments to WIPP could occur within the next ten years if the TRU waste is determined to meet all the requirements for disposal in this repository; however, if some or all of WVDP's TRU waste does not meet these requirements, the Department would need to explore other alternatives for disposal of this waste. Offsite disposal of HLW would occur at the proposed Yucca Mountain HLW Repository sometime after 2025, assuming a license to operate is granted by NRC and a disposal contract between DOE and the State of New York is in place. The HLW storage tanks would continue to be managed as described under the No Action Alternative.

Under Alternative B, Offsite Shipment of LLW and Mixed LLW to Disposal, Shipment of HLW and TRU Waste to Interim Storage, and Interim Stabilization of the Waste Storage Tanks, the LLW and mixed LLW would be shipped offsite for disposal at the same locations as Alternative A. TRU wastes would be shipped for interim storage at one of five DOE sites: Hanford Site in Washington; Idaho National Engineering and Environmental Laboratory; Oak Ridge National Laboratory in Tennessee; Savannah River Site (SRS) in South Carolina; or WIPP in New Mexico. TRU wastes would subsequently be shipped to WIPP (or would remain at WIPP) for disposal. The HLW would be shipped to SRS or Hanford for interim storage with subsequent shipment toYucca Mountain for disposal. The HLW storage tanks and their surrounding vaults would be partially filled with a retrievable grout to provide for interim stabilization of the tanks.

Availability of the Draft EIS

Copies of this Draft EIS have been distributed to Federal, State, and local officials, Members of Congress, and agencies, organizations, and individuals who may be interested or affected. This Draft EIS will be available on the Internet at: http://tis.eh.doe.gov/nepa/docs.docs.htm or http://www.wv.doe.gov. Additional copies can also be requested by telephone at (716) 942-2152 or (800) 633-5280.

Copies of the Draft EIS and supporting technical reports are also available for public review at the locations listed below.

Hulbert Library of the Town of Concord, 18 Chapel Street, Springville, New York 14141

Central Library of the Buffalo and Erie County Public Library System, Science and Technology Department, Lafayette Square, Buffalo, New York 14203

West Valley Central School Library, 5359 School Street, West Valley, New York 14171

The Olean Public Library, 134 North 2nd Street, Olean, New York 14760

Ashford Office Complex, 9030 Route 219, West Valley, New York 14171

Issued in Washington, DC, on May 2, 2003.
Jessie Hill Roberson,
Assistant Secretary for Environmental Management.

[FR Doc. 03-12280 Filed 5-15-03; 8:45 am]

BILLING CODE 6450-01-P